COMMITTEE FOR PURCHASE FROM PEOPLE WHO ARE BLIND OR SEVERELY DISABLED

Procurement List, Additions

AGENCY: Committee for Purchase From People Who Are Blind or Severely Disabled.

ACTION: Additions to the Procurement List.

SUMMARY: This action adds services to the Procurement List that will be provided by nonprofit agencies employing persons who are blind or have other severe disabilities.

DATES: Effective Date: 12/27/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 8/4/2015 (80 FR 46250); 8/21/2015 (80 FR 50825-50826) and 9/25/2015 (80 FR 57792), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Contractor Operated Parts Store (COPARS) Service

Service Is Mandatory For: US Marine Corps Garrison Mobile Equipment Branch, Marine Corps Logistics Base, Building 5400, Albany, GA

Mandatory Source(s) of Supply: Training, Rehabilitation, & Development Institute, Inc., San Antonio, TX

Contracting Activity: Dept of the Navy, Commanding General, Camp Lejeune, NC

The Commission was copied on a letter to the contracting officer from an incumbent contractor's law firm. While not received in response to the initial Federal Register notice, the Commission will, nevertheless, address the comments noted in the letter.

On behalf of the incumbent contractor, the law firm noted that the contractor has held the contract for three years and has retained experienced employees who have established a positive working relationship in providing the required services. The firm submitted that the contractor was the most capable and efficient provider of the required services and could continue to perform with the best stewardship of the taxpayers' money. The firm questioned whether the proposed nonprofit agency could perform the required services within the restraints of the AbilityOne Program's requirement to employ people with severe disabilities and noted that some of its employees were contacted by the nonprofit agency and offered employment. Finally, while noting that the contract was not a major portion of the contractor's business portfolio, the loss of the contract would have a significant financial impact since it would result in the loss of a major profit margin contract without providing specific information to substantiate the impact or how the impact would be measured.

The U.S. AbilityOne Commission (statutorily identified as the Committee for Purchase from People Who Are Blind or Severely Disabled) (Commission) administers the AbilityOne® program under the authority of the Javits-Wagner-O'Day Act. Commission responsibilities include identifying products and services produced or provided by qualified nonprofit agencies employing people who are blind or severely disabled that the Commission determines are suitable for procurement by the Government. Prior to adding any project to the Procurement List (PL), the Commission reviews each project for suitability including, employment potential, nonprofit agency qualifications, capability, and level of impact on the current contractor. If the Commission is satisfied that each of these four criteria are met, then the service can be added to the PL and it becomes a mandatory requirement for the government agency to obtain the service from the designated nonprofit agency if available within the required time frame.

The Commission does not dispute that the contractor is effectively performing the required services; however, that does not mean that it is the only contractor that can effectively perform the services or that the AbilityOne Commission cannot add the work to the Procurement List for performance by a nonprofit agency in the AbilityOne Program. The Commission has reviewed and determined that the project will result in employment for people with severe disabilities and the designated nonprofit agency is qualified under the Commission's 75% ratio requirement and otherwise and capable of performing the services. Additionally, the Commission reviews financial information provided by current contractors to determine whether severe adverse impact will occur if a project is added to the PL. The Commission did so in this instance and disagrees with the contractor's assertion that the addition of this project to the PL will result in severe adverse impact to the contractor company. The Commission has reviewed the specific requirements of this project and determined that this project is suitable for performance by a nonprofit agency employing people who are blind or severely disabled. Placing this project on the PL will result in employment and training opportunities for people with severe disabilities.

Accordingly, following a deliberative review of the facts of this project, the Commission determines that this project is appropriate for the AbilityOne Program and will be added to the Procurement List.

Service Type: Removal/Clean-up Bird Dropping Service

Service Is Mandatory For: Defense Logistics Agency, Defense Supply Center, 8000 Jefferson Davis Highway, Richmond, VA

Mandatory Source(s) of Supply: Richmond Area Association for Retarded Citizens, Richmond, VA

Contracting Activity: Defense Logistics Agency Contracting Services Office, Richmond, VA

Service Type: Custodial and Related Service

Service Is Mandatory For: GSA PBS Region 4, Benjamin P. Grogan and Jerry L. Dove Federal Building, 2030 SW. 145th Avenue, Miramar, FL

Mandatory Source(s) of Supply: CW Resources, Inc., New Britain, CT

Contracting Activity: Public Buildings Service, Acquisition Division/Services Branch, Atlanta, GA

Barry S. Lineback,
Director, Business Operations.

[FR Doc. 2015-30145 Filed 11-25-15; 8:45 am]

BILLING CODE 6353-01-P